DEPARTMENT OF HEALTH AND HUMAN SERVICES

National Institutes of Health

National Institute on Deafness and Other Communication Disorders; Amended Notice of Meeting

Notice is hereby given of a change in the meeting of the National Institute on Deafness and Other Communication Disorders Special Emphasis Panel, which was published in the Federal Register on January 26, 2021, 86FR7101.

This meeting is being amended to change the SRO to Eliane Lazar-Wesley. The meeting is closed to the public.

Dated: February 26, 2021.
Miguelina Perez,
Program Analyst, Office of Federal Advisory Committee Policy.

[FR Doc. 2021-04364 Filed 3-2-21; 8:45 am]

BILLING CODE 4140-01-P